DEPARTMENT OF JUSTICE

Notice of Lodging of Consent Decree Under the Resource Conservation and Recovery Act

On January 29, 2019, the Department of Justice lodged a proposed Consent Decree with the United States District Court for the Northern District of Ohio in United States v. Bedford Environmental Services, LLC and Krick Road Holdings, LLC, Civil Action No. 1:19-cv-224.

The Consent Decree settles claims brought by the United States for violations of the Resource Conservation and Recovery Act (RCRA), 42 U.S.C. 6901 et seq., in connection with a hazardous waste disposal, treatment, and storage facility owned and operated by Defendants in Bedford, Ohio. The Consent Decree requires the Defendants to undertake measures to address the RCRA violations and prevent future RCRA violations and pay a civil penalty of $90,000.

The publication of this notice opens a period for public comment on the proposed Consent Decree. Comments should be addressed to the Assistant Attorney General, Environment and Natural Resources Division, and should refer to United States v. Bedford Environmental Services, LLC, et al., D.J. Ref. No. 90-7-1-11845. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $13.50 (25 cents per page reproduction cost) payable to the United States Treasury.

Randall M. Stone,
Acting Assistant Section Chief, Environmental Enforcement Section, Environment and Natural Resources Division.

[FR Doc. 2019-00940 Filed 2-4-19; 8:45 am]

BILLING CODE 4410-15-P